DEPARTMENT OF TRANSPORTATION

Federal Motor Carrier Safety Administration

[Docket No. FMCSA-2008-0354]

Agency Information Collection Activities; Revision of a Currently-Approved Information Collection Request: COMPASS Portal Customer Satisfaction Assessment

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The collection involves the assessment of FMCSA's strategic decision to integrate its Information Technology (IT) with its business processes using portal technology to consolidate its systems and databases through the FMCSA COMPASS modernization initiative. The information to be collected will be used to assess the satisfaction of Federal, State, and industry customers with the FMCSA COMPASS Portal.

DATES: We must receive your comments on or before March 30, 2009.

ADDRESSES: You may submit comments bearing the Federal Docket Management System (FDMS) Docket Number FMCSA-2008-0354 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington DC, 20590-0001 between 9 a.m. and 5 p.m., e.t., Monday through Friday, except Federal Holidays.

• Fax: 1-202-493-2251.

Each submission must include the Agency name and the docket number for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, 20590-0001 between 9 a.m. and 5 p.m., Monday through Friday, except Federal holidays. The FDMS is available 24 hours each day, 365 days each year. If you want acknowledgement that we received your comments, please include a self-addressed, stamped envelope or post card or print the acknowledgement page that appears after submitting on-line.

Privacy Act: Anyone may search the electronic form of all comments received into any of our dockets by the name of the individual submitting the comment (or of the person signing the comment, if submitted on behalf of an association, business, labor union, etc.). You may review the DOT's complete Privacy Act Statement in the Federal Register on April 11, 2000 (65 FR 19476). This information is also available at http://docketsinfo.dot.gov.

FOR FURTHER INFORMATION CONTACT: Mr. Adam Schlicht, Department of Transportation, Federal Motor Carrier Safety Administration, West Building 6th Floor, 1200 New Jersey Avenue, SE., Washington, DC 20590. Telephone: 202-366-4441; e-mail: adam.schlicht@dot.gov.

SUPPLEMENTARY INFORMATION:

Background

Title II, section 207 of the E-Government Act of 2002 requires Government agencies to improve the methods by which government information, including information on the Internet, is organized, preserved, and made accessible to the public. To meet this goal, FMCSA plans to provide a survey on the FMCSA Portal, allowing users to assess its functionality. This functionality includes the capability for Federal, State, and Industry users to access the Agency's existing safety IT systems with a single set of credentials and have easy access to safety data about the companies that do business with FMCSA. The COMPASS program will also focus on improving the accuracy of data to help ensure information, such as carrier name and address, is valid and reliable.

FMCSA's legacy information systems are currently operational. However, having this many stand-alone systems has led to data quality concerns, a need for excessive IDs and passwords, and significant operational and maintenance costs. Integrating our information technologies with our business processes will, in turn, improve our operations considerably, particularly in terms of data quality, ease of use, and reduction of maintenance costs.

In early 2007, FMCSA' COMPASS program launched a series of releases of a new FMCSA Portal to its Federal, State and Industry customers. Over the coming years, more than 15 releases are planned. These releases will use portal technology to fuse and provide numerous services and functions via a single user interface and provide tailored services that seek to meet the needs of specific constituencies within our customer universe.

The FMCSA COMPASS Portal will entail considerable expenditure of Federal Government dollars over the years and will fundamentally impact the nature of the relationship between the Agency and its Federal, State, and Industry customers. Consequently, the Agency intends to conduct regular and ongoing assessments of customer satisfaction with COMPASS.

The primary purposes of this assessment are to:

• Determine the extent to which the FMCSA Portal functionality continues to meet the needs of Agency customers;

• Identify and prioritize additional modifications;

• Determine the extent that the FMCSA Portal has impacted FMCSA's relationships with its main customer groups.

The assessment will address:

• Overall customer satisfaction;

• Customer satisfaction against specific items;

• Performance of systems integrator against agreed objectives;

• Desired adjustments and modifications to systems;

• Demonstrated value of investment to FMCSA and DOT;

• Items about the FMCSA Portal that customers like best;

• Customer ideas for making the FMCSA Portal better.

Title: COMPASS Portal Customer Satisfaction Assessment.

OMB Control Number: 2126-0042.

Type of Request: Revision of the currently-approved information collection request.

Respondents: Federal, State, and Industry customers/users.

Estimated Number of Respondents: 100,422.

Estimated Time per Response: Five (5) minutes.

Expiration Date: 08/31/2009.

Frequency of Response: 4 times per year.

Estimated Total Annual Burden: 34,474 hours [(5 minutes to complete survey x 4 times per year = 20 minutes/60 minutes x 140,000 annual industry respondents x .70 (70%) response rate = 32,667) + (5 minutes to complete survey x 4 times per year = 20 minutes/60 minutes x 2,691 State government users x .90 (90%) response rate) = 807 burden hours].

Public Comments Invited: You are asked to comment on any aspect of this information collection, including: (1) Whether the proposed collection is necessary for FMCSA's performance including its utility in fostering assessment of the Portal; (2) the accuracy of the estimated burden; (3) ways for the FMCSA to enhance the quality, usefulness, and clarity of the collected information; and (4) ways that the burden could be minimized without reducing the quality of the collected information. The Agency will summarize and/or include your comments in the request for OMB's clearance of this information collection request.

Issued on: January 12, 2009.
Terry Shelton,
Associate Administrator for Research and Information Technology.

[FR Doc. E9-1870 Filed 1-28-09; 8:45 am]

BILLING CODE 4910-EX-P